DEPARTMENT OF HEALTH AND HUMAN SERVICES

Centers for Disease Control and Prevention

[Program Announcement 02191]

Expansion of HIV/AIDS/TB Care and Prevention Activities Among People with HIV/AIDS in the Republic of Uganda; Notice of Availability of Funds

A. Purpose

The Centers for Disease Control and Prevention (CDC) announces the availability of fiscal year (FY) 2002 funds for a cooperative agreement program to strengthen the capacity for providing basic Human Immunodeficiency Virus/Tuberculosis (HIV/AIDS/TB) care and prevention services for people with HIV/AIDS in the Republic of Uganda.

The purpose of this program is to strengthen TB treatment and prevention, scale-up cotrimoxazole prophylaxis and expand other HIV/AIDS diagnostic, care and prevention programs. Also, the program will support the expansion of basic HIV/AIDS care activities in multiple locations in support of CDC Uganda's country strategy.

This program will enhance Uganda's capacity to provide comprehensive HIV/AIDS care and prevention services. Renovations and other infrastructure needs related to the provision of above services will be supported.

Measurable outcomes of the program will be in alignment with one or more of the following performance goals for the Global AIDS Program (GAP): Working with other countries, USAID, international, and U.S. government agencies, reduce the number of new HIV infections among 15 to 24 year olds in sub-Saharan Africa from an estimated two million by 2005.

B. Eligible Applicants

Assistance will be provided only to Ugandan non-governmental organizations with more than five years of experience in the implementation of community HIV/AIDS care programs for populations in multiple rural locations in Uganda. The applicants should have at least two years experience in implementing comprehensive HIV/AIDS care programs for people with AIDS that include psycho-social support, TB care, and prevention of opportunistic infections using Potriomoxazole.

CDC is working in a collaborative manner with national governments and other agencies to develop programs of assistance to address the HIV/AIDS epidemic in many countries. CDC has established partnerships with the Uganda Ministry of Health, the Uganda AIDS Commission and a wide range of local and international non-governmental organizations in discovering and applying effective interventions to prevent HIV infection and associated opportunistic illnesses associated with HIV/AIDS.

Note: Title 2 of the United States Code section 1611 states that an organization described in section 501(c)(4) of the Internal Revenue Code that engages in lobbying activities is not eligible to receive Federal funds constituting an award, grant or loan.

C. Availability of Funds

Approximately $350,000 is available in FY 2002 to fund one award. It is expected that the award will begin on or about August 30, 2002 and will be made for a 12-month budget period within a project period of three years. Funding estimates may change.

Continuation award within an approved project period will be made on the basis of satisfactory progress as evidenced by required reports and the availability of funds.

No matching funds are required for this program announcement.

D. Use of Funds

Funds may only be utilized to implement HIV/AIDS/TB care and prevention activities as described in the goals, objectives, and activities of the submitted and funded program.

The purchase of antiretrovirals, reagents, and laboratory equipment for antiretroviral treatment projects requires pre-approval from the Global AIDS Program headquarters.

Applicants may contract with other organizations under these cooperative agreements, however, applicants must perform a substantial portion of the activities (including program management and operations and delivery of prevention services for which funds are requested).

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distribution sterile needles or syringes for the hypodermic injection of any illegal drug.

E. Program Requirements

In conducting activities to achieve the purpose of this program, the recipient will be responsible for the activities under 1. Recipient Activities, and CDC will be responsible for the activities listed under 2. CDC Activities.

F. Recipient Activities

a. Identify staffing needs; hire and train staff.

b. Identify and acquire programmatic needs including spacing, furnishings, fittings, equipment, and computers.

c. Establish maintenance contracts for program facilities, equipment, and fittings.

d. Carry out training needs assessment for medical and counseling staff if needed.

e. Identify and if necessary subcontract refresher training for all relevant staff in the specific areas identified.

f. Acquire medications, and other clinical and laboratory supplies through normal sources.

g. Develop and implement, customized monitoring and evaluation plans, for each program component.

h. Provide training in new content areas through apprenticeships and other skills development methodologies between treatment sites.

i. Procure, supply, and maintain centers with materials required for clinical activities.

j. Develop and establish a regular distribution system for cotrimoxazole and TB drugs and other supplies.

k. Schedule regular supervisory site visits for clinical activities.

l. Develop training materials including treatment and counseling protocols.

m. Develop a data management plan and provide training for all relevant staff.

n. Initiate collaborations with National TB and Leprosy Program, Ministry of Health and other care institutions.

o. Establish administrative and management systems for the program.

p. Prepare and submit periodic progress and financial reports.

G. CDC Activities

a. Monitor project and budget performance.

b. Approve the selection of key personnel to be involved in the activities performed under this cooperative agreement.

c. Provide technical assistance in the design and implementation of monitoring and evaluation plans and other programmatic areas as needed.

d. Assist in the planning for data management and analysis.

e. Participate in training activities as needed.

f. Provide technical and programmatic oversight to the program.

g. Collaborate with recipient in developing presentations or manuscripts as needed.

H. Application Content

The program announcement title and number must appear in the application. Use the information in the Program Requirements, Other Requirements, and Evaluation Criteria sections to develop the application content. Your application will be evaluated on the criteria listed, so it is important to follow them in laying out your program plan. The narrative should be no more than 25 double-spaced pages, printed on one side, with once-inch margins, and unreduced fonts.

Each activity for which funds are requested should consist of, at a minimum, a plan, objectives, methods, evaluation and budget provided. A summary budget by line item should be provided.

I. Submission and Deadline

Submit the original and two copies of PHS 5161-1 (OMB Number 0920-0428). Forms are available in the application kit and at the following Internet address: http://www.cdc.gov/od/pgo/forminfo.htm.

Application forms must be submitted in the following order:

Cover Letter

Table of Content

Application

Budget Information Form

Budget Justification

Checklist

Assurances

Certifications

Disclosure Form

HIV Assurance Form (if applicable)

Human Subjects Certification (if applicable)

Indirect Cost Rate Agreement (if applicable)

Narrative

On or before 5 p.m. Eastern Standard Time July 17, 2002, submit the application to the Grants Management Specialist identified in the “Where to Obtain Additional Information” section of the announcement.

Deadline applications shall be considered as meeting the deadline if they are received before 5 p.m. Eastern Standard Time on the deadline date. Applicants sending applications commercial delivery services must ensure that the carrier will be able to guarantee delivery of the application by the closing date and time. If an application is received after closing due to:

1. Carrier error, when the carrier accepted the package with a guarantee for delivery by the closing date and time; or

2. Significant weather delays or natural disasters,

CDC will upon receipt of proper documentation, consider the application as having been received by the deadline.

Applications that do not meet the above criteria will not be eligible for competition and will be discarded. Applicants will be notified of their failure to meet the submission requirements.

J. Evaluation Criteria

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

Each application will be evaluated individually against the following criteria by an independent review group appointed by CDC:

1. Program Capacity (25 percent)

The proposal should demonstrate capacity and experience needed to implement a project of this magnitude and scope including infrastructure, staffing levels and laboratory capacity.

2. Technical and programmatic approach (25 percent)

The extent to which the applications proposal demonstrates an understanding of how to develop, implement, monitor and evaluate a care program of this complexity.

3. Program Plan (20 percent)

The proposal should demonstrate capacity and plans to rapidly roll out this program to multiple sites in the country.

4. Personnel (15 percent)

The extent to which professional personnel involved in this project are qualified. Provide evidence of experience in working with HIV/AIDS and specifically in the management of opportunistic infections in HIV/AIDS.

5. Understanding of the problem (15 percent)

The extent in which the applicant describes a clear, concise understanding of the HIV/AIDS epidemic in Uganda, and specifically addresses the gaps in the clinical management of people with HIV/AIDS.

6. Budget. (reviewed, but not scored)

The extent to which the itemized budget for conducting the project is reasonable and well justified.

K. Other Requirements

Technical Reporting Requirements

Provide CDC with original plus two copies:

1. Annual progress report (The progress report will include a data requirement that demonstrates measures of effectiveness).

2. Financial status report, no more than 90 days after the end of the budget period.

3. Final financial and performance reports, no more than 90 days after the end of the project period.

Awardee is required to obtain an annual audit of these CDC funds (program specific audit by a U.S. based audit firm with international branches and current licensure/authority in country, and in accordance with the international accounting standards of equivalent standards approved in writing by CDC).

Projects that involve the collection of information from ten or more individuals and funded by cooperative agreement will be subject to review by the office of management and budget (OMB) under the paperwork reduction act. A fiscal recipient capability assessment may be required with the potential awardee, prior or post award, in order to review the business management and fiscal capabilities regarding the handling of U.S. Federal funds.

Send all reports to both the program contact in Uganda and Grants Management Specialist identified in the “Where to Obtain Additional Information”, section of this announcement.

The following additional requirements are applicable to this program. For a complete description of each, see Attachment I of the announcement. Some of the more complex requirements have additional information provided below:

AR-1 Human Subjects Requirements

AR-2 Requirements for Inclusion of Women and Racial and Ethnic Minorities in Research

AR-4 HIV/AIDS Confidentiality Provisions

AR-6 Patient Care

AR-9 Paperwork Reduction Act Requirements

AR-10 Smoke-Free Workplace Requirements

AR-14 Accounting System Requirements

L. Authority and Catalog of Federal Domestic Assistance Number

This program is authorized under section 307 of the Public Health Service Act, [42 U.S.C. section 2421], as amended. The Catalog of Federal Domestic Assistance number is 93.118.

M. Where To Obtain Additional Information

This and other CDC announcements can be found on the CDC home page Internet address— http://www.cdc.gov Click on “Funding” then “Grants and Cooperative Agreements.”

To obtain business management technical assistance, contact: Dorimar Rosado, Grants Management Specialist, Grants Management Branch, Procurement and Grants Office, Centers for Disease Control and Prevention, 2920 Brandywine Road, Room 3000, Atlanta, GA 30341-4146, Telephone: (770) 488-2782, E-mail: dpr7@cdc.gov.

For program technical assistance, contact: Jonathan Mermin, MD, MPH, GAP, Uganda Country Team, National Center for HIV, STD and TB Prevention, Centers for Disease Control and Prevention, PO Box 49, Entebbe, Uganda, Telephone: +256-410320776, E-mail: jhm@cdc.gov.

Dated: June 2, 2002.
Sandra R. Manning,
CGFM, Director, Procurement and Grants Office, Centers for Disease Control and Prevention.

[FR Doc. 02-15541 Filed 6-19-02; 8:45 am]

BILLING CODE 4163-18-P